DEPARTMENT OF LABOR

Employment and Training Administration

[TA-W-70,387]

Conrad Imports, Inc., San Francisco, CA; Notice of Negative Determination Regarding Application for Reconsideration

By application dated October 1, 2009, a petitioner requested administrative reconsideration of the Department's negative determination regarding eligibility to apply for Trade Adjustment Assistance (TAA), applicable to workers and former workers of the subject firm. The denial notice was signed on September 4, 2009 and published in the Federal Register on November 5, 2009 (74 FR 57342).

Pursuant to 29 CFR 90.18(c) reconsideration may be granted under the following circumstances:

(1) If it appears on the basis of facts not previously considered that the determination complained of was erroneous;

(2) if it appears that the determination complained of was based on a mistake in the determination of facts not previously considered; or

(3) if in the opinion of the Certifying Officer, a misinterpretation of facts or of the law justified reconsideration of the decision.

The initial investigation resulted in a negative determination which was based on the finding that imports of finishing and quality control services did not contribute importantly to worker separations at the subject firm and there was no shift to a foreign country in services supplied by the workers of the subject firm.

In the request for reconsideration the petitioner alleged that workers of Conrad Imports, Inc. tailored the shades to the customer's specifications and performed other finishing services. The petitioner further alleged that Conrad Imports, Inc. opened a facility in Korea in 2007 and that finishing work has been shifted from the subject facility to Korea.

The Department contacted Conrad Imports, Inc. official to address the above allegations. The company official confirmed that Conrad Imports, Inc. has a subsidiary in Korea, which supplies window coverings to the subject firm. However, the company official also stated that quality control and finishing services were not shifted from California facility to Korea. The official confirmed what was revealed in the initial investigation. The investigation revealed that the reduction in business volume caused the subject firm's reorganization and that the layoffs at the subject facility was not related to imports of finishing quality control services and there was no shift in these services abroad.

The petitioner did not supply facts not previously considered; nor provide additional documentation indicating that there was either (1) a mistake in the determination of facts not previously considered or (2) a misinterpretation of facts or of the law justifying reconsideration of the initial determination.

After careful review of the request for reconsideration, the Department determines that 29 CFR 90.18(c) has not been met.

Conclusion

After review of the application and investigative findings, I conclude that there has been no error or misinterpretation of the law or of the facts which would justify reconsideration of the Department of Labor's prior decision. Accordingly, the application is denied.

Signed in Washington, DC, this 10th day of November 2009.
Elliott S. Kushner,
Certifying Officer, Division of Trade Adjustment Assistance.

[FR Doc. E9-29149 Filed 12-7-09; 8:45 am]

BILLING CODE 4510-FN-P